DEPARTMENT OF COMMERCE

National Oceanic and Atmospheric Administration

50 CFR Part 216

[Docket No. 040223066-4066-01; I.D. 012204D]

RIN 0648-AR94

Taking of Marine Mammals Incidental to Commercial Fishing Operations; Authorization for Commercial Fisheries; Correction

AGENCY: National Marine Fisheries Service (NMFS), National Oceanic and Atmospheric Administration (NOAA), Commerce.

ACTION: Final rule; correcting amendment.

SUMMARY: The purpose of this document is to correct unintended errors in definitions contained in the Code of Federal Regulations.

DATES: Effective March 2, 2004.

FOR FURTHER INFORMATION CONTACT: Patricia Lawson, NMFS, Office of Protected Resources, 301-713-2322.

SUPPLEMENTARY INFORMATION:

Background

The definitions that are the subject of this correction are part of the regulations that implement the Marine Mammal Protection Act of 1972, as amended (16 U.S.C. 1361 et seq.), which, among other things, restricts the taking, possession, transportation, selling, offering for sale, and importing of marine mammals. The definition of “Marine mammal” in 50 CFR 216.3 provides that the term means specimens and any part thereof of animals of certain orders, including “Cetacea (whales and porpoises).” To avoid confusion, Dolphins should be included in the parenthesis as a general type of animals in the order Cetacea. The definition of “Regional Director” in 50 CFR 216.3 refers only to the Director of the Southwest Region of NMFS, although it should refer to Regional Administrator for any regional office of NMFS.

Corrections

This document corrects unintended errors in 50 CFR 216.3. The definition of “Marine mammal” is amended to expressly clarify that dolphins are a type of marine mammal in the Order Cetacea and the definition of “Regional Director” is amended to provide that the term includes the Regional Administrator for any regional office of NMFS rather than just the Director of the Southwest Region.

Classification

The Assistant Administrator for Fisheries, National Marine Fisheries Service (AA) finds that good cause exists to waive the requirement to provide prior notice and the opportunity for comment, pursuant to authority set forth at 5 U.S.C. 553(b)(B), as such procedures would be unnecessary. Prior notice and opportunity for comment are unnecessary because this amendment merely corrects and clarifies the subject definitions and will have a de minimis effect, if any, on the regulated community. These corrections do not increase the scope of the regulated community nor add new requirements. In addition, because this rule corrects and clarifies provisions and makes non-substantive or de minimis changes to the regulations, the AA finds good cause under 5 U.S.C. 553(d) not to delay the effective date for 30 days.

Because a general notice of proposed rulemaking is not required under 5 U.S.C. 553, or any other law, the analytical requirements of the Regulatory Flexibility Act, 5 U.S.C. 601 et seq., are inapplicable.

List of Subjects in 50 CFR Part 216

Exports, Fish, Imports, Indians, Labeling, Marine mammals, Penalties, Reporting and recordkeeping requirements, Seafood,Transportation.

Dated: February 26, 2004.
William T. Hogarth,
Assistant Administrator for Fisheries, National Marine Fisheries Service.

For the reason set out in the preamble, 50 CFR part 216 is amended as follows:

PART 216—REGULATIONS GOVERNING THE TAKING AND IMPORTING OF MARINE MAMMALS

1. The authority citation for part 216 continues to read as follows:

Authority: 16 U.S. C. 1361 et seq., unless otherwise noted.

2. In § 216.3, the definitions of “Marine mammal” and “Regional Director” are revised to read as follows:

§ 216.3 Definitions.

* * * * *

Marine mammal means those specimens of the following orders, which are morphologically adapted to the marine environment, and whether alive or dead, and any part thereof, including but not limited to, any raw, dressed or dyed fur or skin: Cetacea (whales, dolphins, and porpoises) and Pinnipedia, other than walrus (seals and sea lions).

* * * * *

Regional Director means the Regional Administrator, Northeast Regional Office, NMFS, One Blackburn Drive, Gloucester, MA 01930; or Regional Administrator, Northwest Regional Office, NMFS, 7600 Sandpoint Way, N.E., Building 1, Seattle, WA 98115; or Regional Administrator, Southeast Regional Office, NMFS, 9721 Executive Center Drive North, St. Petersburg, FL 33702; or Regional Administrator, Southwest Regional Office, NMFS, 501 West Ocean Boulevard, Suite 4200, Long Beach, CA 90802; or Regional Administrator, Pacific Islands Regional Office, NMFS, 1601 Kapiolani Boulevard, Suite 1110, Honolulu, HI 96814; or Regional Administrator, Alaska Regional Office, NMFS, PO Box 21668, Juneau, AK 99802.

* * * * *

[FR Doc. 04-4609 Filed 3-1-04; 8:45 am]

BILLING CODE 3510-22-S